DEPARTMENT OF ENERGY

Federal Energy Regulatory Commission

[Docket Nos. RP07-139-000, RP08-479-000, RP08-487-000 (not consolidated)]

Algonquin Gas Transmission, LLC, Saltville Gas Storage Company, LLC, East Tennessee Natural Gas, LLC; Notice of Technical Conference

September 26, 2008.

On January 19, 2007, Algonquin Gas Transmission, LLC (Algonquin) filed proposed changes to its tariff sheets concerning, among other things, a net present value (NPV) allocation methodology for available capacity that considered probability of default as one of its factors. On February 16, 2007, the Commission accepted and suspended the proposed tariff changes, subject to refund and conditions.¹ On July 19, 2007, the Commission accepted Algonquin's compliance filing subject to certain modifications.² On September 19, 2007, the Commission granted a request for rehearing for further consideration.

¹ Algonquin Gas Transmission, LLC, 118 FERC ¶61,123.

² Id., 120 FERC ¶61,072.

On August 1, 2008, in Docket No. RP08-479-000, Saltville Gas Storage Company, LLC (Saltville) and, in Docket No. RP08-487-000, East Tennessee Natural Gas, LLC (East Tennessee) filed proposed changes to their respective tariffs concerning, among other things, a NPV allocation methodology for available capacity that considered probability of default as one of its factors. On August 29, 2008, the Commission accepted and suspended the proposed tariff changes of both Saltville³ and East Tennessee,⁴ subject to refund and conditions, and the outcome of a technical conference. In both orders, the Commission directed its Staff to convene a technical conference to address the proposed services and terms and conditions, and to report the results of the technical conference to the Commission within 120 days.

³ Saltville Gas Storage Company LLC, 124 FERC ¶61,209.

⁴ East Tennessee Natural Gas, LLC, 124 FERC ¶61,210.

On September 24, 2008 the Commission staff sent data requests to Algonquin, Saltville, and East Tennessee requesting information about the companies' credit practices, default history, and proposed use of a probability of default factor in determining NPV of bids for available capacity. Responses to the data requests are due on October 6, 2008.

Take notice that a technical conference to discuss issues raised by the filings of Algonquin, Saltville, and East Tennessee will be held on Wednesday, October 22, 2008 at 9:30 am (EST), in a room to be designated at the offices of the Federal Energy Regulatory Commission, 888 First Street, NE., Washington, DC 20426.

The parties to all three proceedings should be prepared to discuss the issues raised by the filings, in particular issues concerning the probability of default factor. Parties should also be prepared to discuss companies' responses to the data requests including their current methodologies for allocating capacity, what, if any deficiencies may exist with these methodologies, and how the proposed probability of default factor addresses the deficiencies. The parties should also be prepared to discuss the need for a probability of default factor for both creditworthy and non-creditworthy customers, whether the proposed use of a probability of default factor unreasonably limits the pool of qualified potential bidders for available capacity, and the merits of not separating the probability of default assessment from the NPV bid.

The Commission's conferences are accessible under section 508 of the Rehabilitation Act of 1973. For accessibility accommodations please send an e-mail to accessibility@ferc.gov or call toll free 1-866-208-3372 (voice) or 202-208-1659 (TTY), or send a FAX to 202-208-2106 with the required accommodations.

All parties and staff are permitted to attend. For further information please contact Vince Mareino at (202) 502-6167 or Vince.Mareino@ferc.gov.

Kimberly D. Bose,
Secretary.

[FR Doc. E8-23210 Filed 10-1-08; 8:45 am]

BILLING CODE 6717-01-P